DEPARTMENT OF THE INTERIOR

Office of the Secretary

[XXXD5198NI DS61100000 DNINR0000.000000 DX61104]

Notice of Teleconference Meeting of the Exxon Valdez Oil Spill Public Advisory Committee

AGENCY: Office of the Secretary, Interior.

ACTION: Meeting notice.

SUMMARY: In accordance with the Federal Advisory Committee Act, the Department of the Interior, Office of the Secretary, is announcing that the Exxon Valdez Oil Spill (EVOS) Trustee Council's Public Advisory Committee (PAC) will meet by video teleconference as noted below.

DATES: The virtual meeting will be held on September 28-29, 2021, beginning at 9:30 a.m. to 12 p.m. and 2 to 4 p.m. Alaska Time (AKT) for both days.

ADDRESSES: The meeting will be virtual only using the Zoom meeting platform. To view a tutorial on how to join a Zoom meeting, please go to https://support.zoom.us/hc/en-us/articles/201362193-How-Do-I-Join-A-Meeting-. The video feature will be turned off for all attendees except for the EVOS PAC, Trustee Council staff, presenters, and speakers during public comment to limit bandwidth use and maximize connectivity during the meeting. Please remain muted until you are called upon to speak.

Connect to meeting using Zoom link (video and audio):

https://zoom.us/j/93034091186?pwd=MWNsVFdBNllveWhqSS8xUFhwTTdGQT09

Meeting ID: 930 3409 1186

Passcode: 672577

Follow the prompts; you will be asked if you would like to join audio with internet (your device microphone/speaker) or use a telephone (follow the prompts accordingly).

Connect to the meeting via telephone (audio only, no video):

Dial any of the following numbers:

(253) 215-8782

(669) 900-6833

(346) 248-7799

(312) 626-6799

(929) 205-6099

(301) 715-8592

Enter the Meeting ID 930 3409 1186#; there is no participant code, and use *6 to mute.

Please check the EVOS Trustee Council website for updates regarding the virtual meeting at www.evostc.state.ak.us/.

FOR FURTHER INFORMATION CONTACT: Dr. Philip Johnson, Department of the Interior, Office of Environmental Policy and Compliance, telephone number: (907) 786-3914; email: philip_johnson@ios.doi.gov.

SUPPLEMENTARY INFORMATION: The EVOS PAC was created pursuant to Paragraph V.A.4 of the Memorandum of Agreement and Consent Decree entered into by the United States of America and the State of Alaska on August 27, 1991, and approved by the United States District Court for the District of Alaska in settlement of United States of America v. State of Alaska, Civil Action No. A91-081 CV.

The EVOS PAC meeting agenda will include the FY22 Work Plan. An opportunity for public comments will be provided. The final agenda and materials for the meeting will be posted on the EVOS Trustee Council website at www.evostc.state.ak.us. All EVOS PAC meetings are open to the public.

Public Input

Interested persons may choose to make oral comments at the meeting during the designated time. Depending on the number of people wishing to comment and the time available, the amount of time for oral comments may be limited. Interested parties should contact the Designated Federal Officer (see FOR FURTHER INFORMATION CONTACT) for advance placement on the public speaker list for this meeting.

Submitting Written Information or Questions

Interested members of the public may submit relevant information or questions for the Committee to consider during the public meeting. Written statements must be received by September 22, 2021, so that the information may be made available to the Committee for their consideration prior to this meeting. Written statements must be supplied to the Designated Federal Officer via email at philip_johnson@ios.doi.gov.

Public Disclosure of Comments

Before including your address, phone number, email address, or other personal identifying information in your comments, please be aware that your entire comment, including your personal identifying information, may be made publicly available at any time. While you can ask us in your comment to withhold your personal identifying information from public review, we cannot guarantee that we will be able to do so.

Authority: 5 U.S.C. appendix 2.

Philip Johnson,
Regional Environmental Officer, Office of Environmental Policy and Compliance.

[FR Doc. 2021-16570 Filed 8-3-21; 8:45 am]

BILLING CODE 4334-63-P